DEPARTMENT OF HEALTH AND HUMAN SERVICES

Centers for Disease Control and Prevention

[60Day-10-0255]

Periodic Summaries of Proposed Projects

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Resources and Services Database of the CDC National Prevention Information Network (OMB No. 0920-0255 exp. 5/31/2010)—Reinstatement with change—National Center for HIV/AIDS, Viral Hepatitis, STD, and TB Prevention (NCHHSTP), Centers for Disease Control and Prevention (CDC).

Background and Brief Description

This request is for 3 years. NCHHSTP has the primary responsibility within the CDC and the U.S. Public Health Service for the prevention and control of HIV infection, viral hepatitis, sexually transmitted diseases (STDs), and tuberculosis (TB), as well as for community-based HIV prevention activities, syphilis, and TB elimination programs. NPIN serves as the U.S. reference, referral, and distribution service for information on HIV/AIDS, viral hepatitis, STDs, and TB, supporting NCHHSTP's mission to link Americans to prevention, education, and care services. NPIN is a critical member of the network of government agencies, community organizations, businesses, health professionals, educators, and human services providers that educate the American public about the grave threat to public health posed by HIV/AIDS, viral hepatitis, STDs, and TB, and provides services for persons infected with human immunodeficiency virus (HIV).

The NPIN Resources and Services Database contains entries on approximately 10,000 organizations and is the most comprehensive listing of HIV/AIDS, viral hepatitis, STD, and TB resources and services available throughout the country. The American public can also access the NPIN Resources and Services database through the NPIN Web site. More than 29 million hits by the public to the Web site are recorded annually.

To accomplish CDC's goal of continuing efforts to maintain an up-to-date, comprehensive database, NPIN plans each year to add up to 200 newly identified organizations and to verify those organizations currently described in the NPIN Resources and Services Database each year. Organizations with access to the Internet will be given the option to complete and submit an electronic version of the questionnaire by visiting the NPIN Web site. There is no cost to the respondents other than their time.

Estimated Annualized Burden Hours
Form | Respondents | Number of respondents | Number of responses per respondent | Average burden per response (in hours) | Total burden (in hours)
Initial Questionnaire Telephone Script (200 | Registered nurses | 120 | 1 | 20/60 | 40
new organizations) | Social and community service managers | 20 | 1 | 10/60 | 3
| Health educators | 20 | 1 | 13/60 | 4
| Social and human service assistants | 160 | 1 | 15/60 | 40
Telephone Verification (7,000 organizations) | Registered nurses | 4,000 | 1 | 10/60 | 667
| Social and community service managers | 700 | 1 | 10/60 | 117
| Health educators | 700 | 1 | 10/60 | 117
| Social and human service assistants | 5,600 | 1 | 9/60 | 840
E-mail Verification (3,000 organizations) | Registered nurses | 1,567 | 1 | 10/60 | 261
| Social and community service managers | 300 | 1 | 12/60 | 60
| Health educators | 300 | 1 | 10/60 | 50
| Social and human service assistants | 2,400 | 1 | 10/60 | 400
Total |  |  |  |  | 2,599

Dated: July 23, 2010.
Maryam I. Daneshvar,
Reports Clearance Officer, Centers for Disease Control and Prevention.

[FR Doc. 2010-18917 Filed 7-30-10; 8:45 am]

BILLING CODE 4163-18-P